DEPARTMENT OF TRANSPORTATION

National Highway Traffic Safety Administration

[Docket No. NHTSA 2003-14880]

Notice of Rescheduling of Public Meeting Regarding NHTSA's Initial Decision That Certain Motorcycle Helmets Manufactured by NexL Sports Products Fail To Comply With Federal Motor Vehicle Safety Standard No. 218

AGENCY: National Highway Traffic Safety Administration (NHTSA), DOT.

ACTION: Notice of rescheduling of public meeting.

SUMMARY: NHTSA has rescheduled the public meeting previously scheduled for May 14, 2003 regarding its Initial Decision that NexL Sports Products (NexL) “Beanie DOT Motorcycle Helmets” (model 02) fail to comply with Federal Motor Vehicle Safety Standard (FMVSS) No. 218, Motorcycle Helmets. NHTSA has also rescheduled the hearing to determine if NexL's remedy for the noncompliance of its model 01 helmets with FMVSS No. 218 was adequate. The public meeting regarding NHTSA's Initial Decision and the hearing on the adequacy of the remedy for the model 01 helmets have been rescheduled for 10 a.m. on June 27, 2003.

FOR FURTHER INFORMATION CONTACT: Andrew J. DiMarsico, Office of Chief Counsel, National Highway Traffic Safety Administration, 400 Seventh Street, SW., Washington, DC 20590; (202) 366-5263. NHTSA's Initial Decision, and the information on which it is based, are available at NHTSA's Technical Information Services, Room 5111, 400 Seventh Street, SW., Washington, DC 20590;Telephone: 202-366-2588. When visiting Technical Information Services or contacting it via the telephone, refer to Investigation File CI-218-020612.

SUPPLEMENTARY INFORMATION: On April 11, 2003, NHTSA published a Notice in the Federal Register that it would hold a public meeting regarding its Initial Decision that model 02 motorcycle helmets manufactured by NexL Sports Products (NexL) fail to comply with Federal Motor Vehicle Safety Standard (FMVSS) No. 218, Motorcycle Helmets, 49 CFR 571.218 and a hearing to determine whether the remedy provided by NexL to address a noncompliance in its model 01 helmets was adequate. For further details regarding this notice, see 68 FR 17857 (April 11, 2003). This public meeting and the associated remedy adequacy hearing have been rescheduled to June 27, 2003 at 10 a.m. in room 6332, Department of Transportation Building, 400 Seventh Street, SW., Washington, DC.

Persons wishing to make oral presentations must notify Tilda Proctor, National Highway Traffic Safety Administration, Room 5321, 400 Seventh Street, SW., Washington, DC 20590, (202) 366-4759, or by fax at (202) 366-8065, before the close of business on June 20, 2003. Other information in the Federal Register Notice of April 11, 2003 continues to apply.

Persons who wish to file written comments should submit them to the same address, preferably no later than the beginning of the meeting/hearing on June 27, 2003. However, the agency will accept written submissions until July 11, 2003.

Authority: 49 U.S.C. 30118(a), (b), and 49 U.S.C. 30120(c), (e); delegations of authority at 49 CFR 1.50(a) and 49 CFR 501.8.

Issued on: May 1, 2003.
Kenneth N. Weinstein,
Associate Administrator for Enforcement.

[FR Doc. 03-11158 Filed 5-5-03; 8:45 am]

BILLING CODE 4910-59-P